DEPARTMENT OF THE INTERIOR

Bureau of Ocean Energy Management

[OMB Number 1010-0151]

Information Collection: Plans and Information; Submitted for OMB Review; Comment Request; MMAA104000

ACTION: 30-day notice.

SUMMARY: To comply with the Paperwork Reduction Act of 1995 (PRA), the Bureau of Ocean Energy Management (BOEM) is notifying the public that we have submitted an information collection request (ICR) to the Office of Management and Budget (OMB) for review and approval. This ICR pertains to the paperwork requirements in the regulations under 30 CFR 550, Subpart B, Plans and Information. This notice provides the public a second opportunity to comment on the paperwork burden of this collection.

DATES: Submit written comments by December 8, 2014.

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-0151 in your comment and include your name and return address.

FOR FURTHER INFORMATION CONTACT: Arlene Bajusz, Office of Policy, Regulations, and Analysis at arlene.bajusz@boem.gov (email) or (703) 787-1025 (phone). You may review the ICR and forms online at http://www.reginfo.gov. Follow the instructions to review Department of the Interior collections under review by OMB.

SUPPLEMENTARY INFORMATION:

OMB Control Number: 1010-0151.

Title: 30 CFR 550, Subpart B, Plans and Information.

Forms: BOEM-0137, BOEM-0138, BOEM-0139, BOEM-0141, BOEM-0142.

Abstract: The Outer Continental Shelf (OCS) Lands Act, as amended (43 U.S.C. 1331 et seq. and 43 U.S.C. 1801 et seq.), authorizes the Secretary of the Interior to prescribe rules and regulations to administer leasing of mineral resources on the OCS. Such rules and regulations apply to all operations conducted under a lease, right-of-use and easement, or unit. The OCS Lands Act, at U.S.C. 1340 and 1351, requires the holders of OCS oil and gas or sulphur leases to submit exploration plans (EPs) and development and production plans (DPPs) to the Secretary for approval prior to commencing these activities. Also, as a Federal agency, we have a continuing affirmative duty to comply with the National Environmental Policy Act (NEPA), Endangered Species Act (ESA), and the Marine Mammal Protection Act (MMPA). This includes a substantive duty to carry out any agency action in a manner that is not likely to jeopardize protected species as well as a procedural duty to consult with the U.S. Fish and Wildlife Service (FWS) and National Oceanic and Atmospheric Administration Fisheries (NOAA Fisheries) before engaging in a discretionary action that may affect a protected species.

These authorities and responsibilities are among those delegated to BOEM. The regulations at 30 CFR 550, Subpart B, concern plans and information that must be submitted to conduct activities on a lease, right-of-use and easement, or unit and are the subject of this collection. The collection also covers the related Notices to Lessees and Operators (NTLs) that BOEM issues to clarify, supplement, or provide additional guidance on some aspects of our regulations.

BOEM geologists, geophysicists, and environmental scientists and other Federal agencies (e.g., FWS, NOAA Fisheries) analyze and evaluate the information and data collected under Subpart B to ensure that planned operations are safe; will not adversely affect the marine, coastal, or human environment; and will conserve the resources of the OCS. We use the information to (a) make an informed decision on whether to approve the proposed exploration or development and production plan as submitted, or whether modifications are necessary without the analysis and evaluation of the required information. The affected States also review the information collected to determine consistency with approved Coastal Zone Management (CZM) plans and (b) report annually to NOAA Fisheries the effectiveness of mitigation, any adverse effects of the proposed action, and any incidental take, in accordance with 50 CFR 402.14(i)(3).

The following forms are submitted to BOEM under Subpart B.

BOEM-0137—Plan Information Form is submitted to summarize plan information. BOEM uses the information to review and evaluate submitted OCS plans. In this renewal, BOEM is modifying the form to clarify the wording of some fields, remove redundant fields, and make some minor formatting adjustments. We do not expect any change in the hour burden as a result.

BOEM-0138—Gulf of Mexico Air Emission Calculations for Exploration Plans; BOEM-0139—Gulf of Mexico Air Emission Calculations for Development and Production Plans (DPPs)/Development Operations Coordination Documents (DOCDs) are submitted to standardize the way potential air emissions are estimated and approved as part of the OCS plan. BOEM uses the data from these forms to determine the effect of air emissions on the environment.

BOEM-0141—ROV Survey Report is submitted to report the observations and information recorded from two sets of remotely operated vehicle (ROV) monitoring surveys to identify high-density benthic communities that may occur on the seafloor in deep water. BOEM uses the information to help design mitigation measures to avoid these areas and to help assess the effectiveness of avoidance criteria.

BOEM-0142—Environmental Impact Analysis Worksheet identifies the environmental impact-producing factors for the listed environmental resources. BOEM uses the information to help assess impacts and determine compliance with NEPA.

We will protect information considered proprietary under the Freedom of Information Act (5 U.S.C. 552) and its implementing regulations (43 CFR 2), 30 CFR 550.197, “Data and information to be made available to the public or for limited inspection,” and 30 CFR part 552, “Outer Continental Shelf (OCS) Oil and Gas Information Program.” No items of a sensitive nature are collected. Responses are mandatory.

Frequency: On occasion, semi-monthly, or varies by section.

Description of Respondents: Potential respondents comprise Federal OCS oil, gas, or sulphur lessees and operators.

Estimated Reporting and Recordkeeping Hour Burden: We expect the estimated annual reporting burden for this collection to be 432,512 hours. The following table details the individual components and respective hour burden estimates of this ICR. In calculating the burdens, we assumed that respondents perform certain requirements in the normal course of their activities. We consider these to be usual and customary and took that into account in estimating the burden.

Burden Breakdown
Citation 30 CFR 550 Subpart B and NTLs | Reporting & recordkeeping requirement ¹ | Non-hour costs ²: Hour burden | Non-hour costs ²: Average number of annual responses | Non-hour costs ²: Burden hours
200 thru 206 | General requirements for plans and information; fees/refunds, etc | Burden included with specific requirements below. |  | 0
201 thru 206; 211 thru 228: 241 thru 262 | BOEM posts on FDMS, EPs/DPPs/DOCDs, and receives public comments in preparation of EAs | Not considered IC as defined in 5 CFR 1320.3(h)(4). |  | 0
Ancillary Activities
208; NTLs | Notify BOEM in writing and other users of the OCS before conducting ancillary activities | 11 | 61 notices | 671
207; 210(a) | Submit report summarizing & analyzing data/information obtained or derived from ancillary activities | 2 | 61 reports | 122
207; 210(b) | Retain ancillary activities data/information; upon request, submit to BOEM | 2 | 61 records | 122
|  | 2.5 | 1 submittal | 3 (rounded).
Subtotal | 184 responses | 918 hours.
Contents of Exploration Plans (EP)
200-206; 209; 231(b); 232(d); 234; 235; 281; 283; 284; 285; NTLs | Submit amended, modified, revised, or supplemental EP, or resubmit disapproved EP, including required information; withdraw an EP | 150 | 345 changed plans ³ | 51,750
200-206; 209; 211 thru 228; NTLs | Submit EP and all required information (including, but not limited to, submissions | 600 | 163 ³ | 97,800
| required by BOEM Forms 0137, 0138, 0142; lease stipulations; withdrawals; air quality info.; reports, including shallow hazards surveys, H2S, G&G, archaeological surveys (550.194)), in specified formats. Provide notifications; retain data | $3,673 × 163 EP surface locations = $598,699.
220 | Alaska-specific requirements | Burden included with EP requirements (30 CFR 550.211-228) |  | 0
Subtotal | 508 responses | 149,550
| $598,699 Non-Hour Costs.
Review and Decision Process for the EP
235(b); 272(b); 281(d)(3)(ii) | Appeal State's objection | Burden exempt as defined in 5 CFR 1320.4(a)(2), (c). |  | 0
Contents of Development and Production Plans (DPP) and Development Operations Coordination Documents (DOCD)
200-206; 209; 266(b); 267(d); 272(a); 273; 281; 283; 284; 285; NTLs | Submit amended, modified, revised, or supplemental DPP or DOCD, including required information, or resubmit disapproved DPP or DOCD | 235 | 353 changed plans ³ | 82,955
200-206; 241 thru 262; 209; NTLs | Submit DPP/DOCD and required/supporting information (including, but not limited to, | 700 | 268 ³ | 187,600
| submissions required by BOEM Forms 0137, 0139, 0142; lease stipulations; withdrawals; air quality info.; reports, including shallow hazards surveys, archaeological surveys (CFR 550.194)), in specified formats. Provide notifications; retain data | $4,238 × 268 DPP/DOCD wells = $1,135,784.
Subtotal | 621 responses | 270,555
| $1,135,784 Non-hour costs.
Review and Decision Process for the DPP or DOCD
267(a) | Once BOEM deemed DPP/DOCD submitted; Governor of each affected State, local government official; etc., submit comments/recommendations | 1 | 1 submittal | 1
267(b) | General public comments/recommendations submitted to BOEM re: DPPs or DOCDs | Not considered IC as defined in 5 CFR 1320.3(h)(4). |  | 0
269(b) | Submit information on preliminary plans for leases or units in vicinity of proposed development and production activities | 3 | 1 response | 3
Subtotal | 2 responses | 4
Post-Approval Requirements for the EP, DPP, and DOCD
280 | Request departure from your approved EP, DPP, or DOCD | Burden included under 1010-0114. |  | 0
281(a) | Submit various BSEE applications | Burdens included under appropriate subpart or form (1014-0003; 1014-0011; 1014-0016; 1014-0018). |  | 0
282 | Retain monitoring data/information; upon request, make available to BOEM | 4 | 150 records | 600
| Submit monitoring plan for approval | 2 | 6 plans | 12
282(b) | Submit monitoring reports and data (including BOEM Form 0141 used in GOMR) | 3 | 12 reports | 36
284 | Submit updated info on activities conducted under approved EP/DPP/DOCD | 4 | 56 updates | 224
Subtotal | 224 responses | 872
Submit CIDs
296(a); 297 | Submit CID and required/supporting information | 375 | 14 documents | 5,250
| $27,348 × 14 = $382,872.
296(b); 297 | Submit a revised CID for approval | 100 | 13 revisions | 1,300
Subtotal | 27 responses | 6,550
| $382,872 non-hour costs.
Seismic Survey Mitigation Measures and Protected Species Observer Program NTL
NTL; 211 thru 228; 241 thru 262 | Submit to BOEM observer training requirement materials and information | 1.5 | 2 sets of material | 3
| Training certification and recordkeeping | 1 | 1 new trainee | 1
| During seismic acquisition operations, submit daily observer reports semi-monthly | 1.5 | 344 reports | 516
| If used, submit to BOEM information on any passive acoustic monitoring system prior to placing it in service | 2 | 6 submittals | 12
| During seismic acquisition operations, submit to BOEM marine mammal observation report(s) semi-monthly or within 24 hours if air gun operations were shut down | 1.5 | 1,976 reports | 2,964
| During seismic acquisition operations, when air guns are being discharged, submit daily observer reports semi-monthly | 1.5 | 344 reports | 516
| Observation Duty (3 observers fulfilling an 8 hour shift ea for 365 calendar days × 4 vessels = 35,040 man-hours). This requirement is contracted out; hence the non-hour cost burden | 3 observers × 8 hrs × 365 days = 8,760 hours × 4 vessels observing = 35,040 man-hours × $52/hr = $1,822,080.
Subtotal | 2,673 responses | 4,012
| $1,822,080 Non-Hour Costs.
Vessel Strike Avoidance and Injured/Protected Species Reporting NTL
NTL; 211 thru 228; 241 thru 262 | Notify BOEM within 24 hours of strike, when your vessel injures/kills a protected species (marine mammal/sea turtle) | 1 | 1 notice | 1
Subtotal | 1 response | 1
General Departure
200 thru 299 | General departure and alternative compliance requests not specifically covered elsewhere in Subpart B regulations | 2 | 25 requests | 50
Subtotal | 25 responses | 50
Total Burden | 4,265 responses | 432,512
| $3,939,435 Non-Hour Costs.
¹ In the future, BOEM may require electronic filing of some submissions.
² Fees are subject to modification per inflation annually.
³ Number of plans currently estimated for all OCS areas.

Estimated Reporting and Recordkeeping Non-Hour Cost Burden: We have identified three non-hour costs associated with this information collection that are cost recovery fees. They consist of fees being submitted with EP's ($3,673), DPP's or DOCD's ($4,238), and CID's ($27,348).

There is also one non-hour cost burden associated with the Protected Species Observer Program. The cost associated with this program is due to observation activities that are usually subcontracted to other service companies with expertise in these areas (see above table). The total non-hour cost burden for this collection is $3,939,435.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

To comply with the public consultation process, on June 9, 2014, BOEM published a Federal Register notice (79 FR 32989) announcing that we would submit this ICR to OMB for approval. This notice provided the required 60-day comment period. We received one comment, but it did not pertain to the information collection.

Public Availability of Comments: Before including your address, phone number, email address, or other personal identifying information in your comment, you should be aware that your entire comment—including your personal identifying information—may be made publicly available at any time. While you can ask us in your comment to withhold your personal identifying information from public review, we cannot guarantee that we will be able to do so.

Dated: October 27, 2014.
Deanna Meyer-Pietruszka,
Chief, Office of Policy, Regulations, and Analysis.

[FR Doc. 2014-26464 Filed 11-6-14; 8:45 am]

BILLING CODE 4310-MR-P